DEPARTMENT OF TRANSPORTATION

Federal Aviation Administration

14 CFR Part 71

[Docket No. FAA-2014-0271; Airspace Docket No. 13-AWP-16]

RIN 2120-AA66

Proposed Modification and Establishment of Area Navigation (RNAV) Routes; Western United States

AGENCY: Federal Aviation Administration (FAA), DOT.

ACTION: Notice of proposed rulemaking (NPRM).

SUMMARY: This action proposes to modify three RNAV Q-routes and establish five Q-routes originating in Oakland Air Route Traffic Control Center's (ARTCC) airspace. The routes would promote operational efficiencies for users and provide connectivity to current and proposed RNAV en route and terminal procedures.

DATES: Comments must be received on or before July 24, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2014-0271 and Airspace Docket No. 13-AWP-16 at the beginning of your comments. You may also submit comments through the Internet at http://www.regulations.gov.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2014-0271 and Airspace Docket No. 13-AWP-16) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2014-0271 and Airspace Docket No. 13-AWP-16.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov.

You may review the public docket containing the proposal, any comments received and any final disposition in person in the Dockets Office (see ADDRESSES section for address and phone number) between 9 a.m. and 5 p.m., Monday through Friday, except Federal holidays. An informal docket may also be examined during normal business hours at the office of the Western Service Center, Operations Support Group, Federal Aviation Administration, 1601 Lind Ave. SW., Renton, WA 98057.

Persons interested in being placed on a mailing list for future NPRM's should contact the FAA's Office of Rulemaking, (202) 267-9677, for a copy of Advisory Circular No. 11-2A, Notice of Proposed Rulemaking Distribution System, which describes the application procedure.

The Proposal

The FAA is proposing an amendment to Title 14, Code of Federal Regulations (14 CFR) part 71 to modify 3 Q-routes and establish 5 RNAV Q-routes originating in the Oakland ARTCC airspace. The routes would run generally west-east, connecting the San Francisco and Los Angeles terminal areas with destinations to the east. The modified routes would connect to new Standard Instrument Departure (SID) and Standard Terminal Arrival (STAR) procedures as designed in the Northern California (NorCal) Metroplex. The proposed routes would provide options to traverse or circumnavigate the restricted area R-2508 complex. The proposed routes are described below.

Q-120: Q-120 extends between the Sacramento, CA, VORTAC (SAC) and the Redwood Falls, MN, VOR/DME (RWF). The proposed modification would remove the SAC VORTAC at the west end of the route and replace it with the new ORRCA waypoint (WP). Additional WPs would be added along the route. On the east end, the RWF VOR/DME would be removed from the route and a new endpoint would be established using the existing UFFDA WP, MN. The UFFDA WP is located approximately 41 nautical miles (NM) west of the RWF VOR/DME, thereby shortening the length of Q-120 by that distance.

Q-128: Q-128 extends between the Linden, CA, VORTAC (LIN) and the Memphis, TN, VORTAC (MEM). The proposed modifications would remove the LIN VORTAC from route and replaced with the new SYRAH, CA, WP. The SYRAH WP would be located approximately 7 NM southwest of the LIN VORTAC. The Bartlesville, OK, VOR/DME (BVO) would be removed from the route and replaced with the VEGUC, OK, WP (approximately 12 NM southeast of the BVO) VOR/DME. The Razorback, AR, VORTAC (RZC) would also be removed from the route and replaced by the NOBBY, AR, WP. The NOBBY WP is approximately 1 NM northeast of RZC VORTAC. The MEM VORTAC would be removed from the route and replaced by the MUDHO, MS, WP (approximately 7 NM southwest of the MEM VORTAC). From the MUDHO WP, Q-128 would be extended by approximately 160 NM to the southeast terminating at the new east end JILLS, AL, WP. The JILLS WP would be located approximately 11 NM northwest of the Crimson, AL, VORTAC (LDK).

Q130: Q130 extends between the LIN VORTAC and the Panhandle, TX, VORTAC (PNH). The proposed modifications would remove the LIN VORTAC from route and replace it with the new SYRAH, CA, WP. The Rattlesnake, NM, VORTAC (RSK) would also be replaced by the new HASSL, UT, WP; and the existing TAHIB, UT, WP, would be inserted between the ROCCY, UT, WP and the DIXAN, NM, WP. The PNH VORTAC would remain as the eastern endpoint of Q-130.

The proposed changes to Q-120, Q-128, and Q-130 are intended to support Performance Based Navigation procedures into or out of terminal areas and to reduce the reliance on ground-based navigation aids by replacing some facilities in the route descriptions with GPS waypoints.

The following new routes are proposed:

Q-158: Q-158 would extend from a new NTELL, CA, WP (to be located west of restricted area R-2508, near the Clovis, CA, VORTAC (CZQ), transiting through the northern part of R-2508, and the new JEDNA, NV, WP (northwest of Las Vegas, NV).

Q-160: Q-160 would begin at the new SHVVR, CA, WP, then transit through the northern part of R-2508, and end at the existing BIKKR, CA, WP, where it would link to Q-158.

Q-162: Q-162 would extend between the NTELL WP and the MYCAL, NV, WP. From NTELL, Q-162 would circumnavigate around the north end of R-2508 through the existing CABAB, CA, WP and the KENNO, NV, WP, then turn southeastward through the gap between restricted areas R-2508 and R-4807A/R-4808N, to the MYCAL WP, where it would link to Q-158.

Q-164: Q-164 would extend between the NTELL, CA, WP and the existing ROCCY, UT, WP. Q-164 would provide east- and west-bound routing north of the R-2508 and R-4807/R-4808 complexes.

Q-166: Q-166 would begin at the VIKSN, CA, WP, then transit through the northeast corner of R-2508, to end at the BIKKR, CA, WP. Q-166 would connect with Q-162 at the VIKSN WP and with Q-158 and Q-160 at the BIKKR WP.

It should be noted that the proposed routes that would transit through R-2508 (i.e., Q-158, Q-160 and Q-166) would only be available during times when the restricted airspace has been released to the FAA for joint use in accordance with a joint use agreement.

The FAA is proposing this action to promote user operational efficiencies and to provide connectivity to current and proposed RNAV en route and terminal procedures.

High altitude RNAV routes are published in paragraph 2006 of FAA Order 7400.9X dated August 7, 2013, and effective September 15, 2013, which is incorporated by reference in 14 CFR 71.1. The RNAV routes listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This proposed regulation is within the scope of that authority as it would modify the route structure as required to enhance the safe and efficient flow of air traffic in the western United States.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, Dated August 7, 2013, and effective September 15, 2013, is amended as follows:

Paragraph 2006 United States Area Navigation Routes.

* * * * *

Q120 ORRCA, CA to UFFDA, MN [Amended]
ORRCA, CA | WP | (Lat. 38°26′37″ N., long. 121°33′06″ W.)
MENSE, NV | WP | (Lat. 39°53′32″ N., long. 119°05′50″ W.)
ZORUN, NV | WP | (Lat. 39°59′00″ N., long. 118°55′00″ W.)
GALLI, NV | WP | (Lat. 40°19′10″ N., long. 118°07′18″ W.)
JAJAY, NV | WP | (Lat. 40°44′03″ N., long. 116°49′33″ W.)
LIITL, NV | WP | (Lat. 41°21′36″ N., long. 114°44′31″ W.)
PROXI, UT | WP | (Lat. 41°58′21″ N., long. 112°31′34″ W.)
Big Piney, WY | (BPI) VOR/DME | (Lat. 42°34′46″ N., long. 110°06′33″ W.)
JUGIV, WY | WP | (Lat. 42°57′44″ N., long. 108°08′43″ W.)
HIKOX, WY | WP | (Lat. 43°12′16″ N., long. 106°52′19″ W.)
JASTI, SD | WP | (Lat. 44°01′24″ N., long. 101°26′26″ W.)
UFFDA, MN | WP | (Lat. 44°29′46″ N., long. 96°05′25″ W.)
Q128 SYRAH, CA to JILLS, AL [Amended]
SYRAH, CA | WP | (Lat. 37°59′28″ N., long. 121°06′11″ W.)
JSICA, NV | WP | (Lat. 38°31′14″ N., long. 117°17′13″ W.)
TABLL, UT | WP | (Lat. 38°39′56″ N., long. 113°10′35″ W.)
EDLES, UT | WP | (Lat. 38°40′40″ N., long. 109°56′27″ W.)
FLOOD, CO | WP | (Lat. 38°20′24″ N., long. 105°05′38″ W.)
ZAROS, CO | WP | (Lat. 37°59′22″ N., long. 102°20′22″ W.)
VEGUC, OK | WP | (Lat. 36°48′52″ N., long. 96°00′45″ W.)
NOBBY, AR | FIX | (Lat. 36°15′13″ N., long. 94°06′27″ W.)
ECIGE, AR | WP | (Lat. 35°33′53″ N., long. 91°54′08″ W.)
MUDHO, MS | WP | (Lat. 34°56′30″ N., long. 90°06′26″ W.)
JILLS, AL | WP | (Lat. 33°19′27″ N., long. 87°44′47″ W.)
Q130 SYRAH, CA to Panhandle, TX (PNH) [Amended]
SYRAH, CA | WP | (Lat. 37°59′28″ N., long. 121°06′11″ W.)
JSICA, NV | WP | (Lat. 38°31′14″ N., long. 117°17′13″ W.)
REANA, NV | WP | (Lat. 38°24′00″ N., long. 114°20′00″ W.)
ROCCY, UT | WP | (Lat. 37°49′42″ N., long. 112°00′00″ W.)
HASSL, UT | WP | (Lat. 37°34′12″ N., long. 110°53′01″ W.)
TAHIB, UT | WP | (Lat. 37°03′15″ N., long. 108°47′44″ W.)
DIXAN, NM | WP | (Lat. 36°16′51″ N., long. 105°57′20″ W.)
MIRME, NM | WP | (Lat. 35°47′01″ N., long. 103°50′32″ W.)
Panhandle, TX | (PNH) VORTAC | (Lat. 35°14′06″ N., long. 101°41′57″ W.)
Q158 NTELL, CA TO JEDNA, NV [New]
NTELL, CA | WP | (Lat. 36°53′59″ N., long. 119°53′22″ W.)
PPARK, CA | WP | (Lat. 36°46′49″ N., long. 118°38′49″ W.)
TRTIS, CA | WP | (Lat. 36°36′37″ N., long. 117°06′57″ W.)
BIKKR, CA | WP | (Lat. 36°34′00″ N., long. 116°45′00″ W.)
MYCAL, NV | WP | (Lat. 36°27′37″ N., long. 116°15′51″ W.)
JEDNA, NV | WP | (Lat. 36°19′24″ N., long. 115°39′22″ W.)
Q160 SHVVR, CA TO BIKKR, CA [New]
SHVVR, CA | WP | (Lat. 37°14′24″ N., long. 119°48′49″ W.)
FAANG, CA | INT | (Lat. 37°00′00″ N., long. 118°35′03″ W.)
RIVVO, CA | WP | (Lat. 36°39′10″ N., long. 117°06′15″ W.)
BIKKR, CA | WP | (Lat. 36°34′00″ N., long. 116°45′00″ W.)
Q162 NTELL, CA TO MYCAL, NV [New]
NTELL, CA | WP | (Lat. 36°53′59″ N., long. 119°53′22″ W.)
CABAB, CA | WP | (Lat. 37°16′36″ N., long. 118°43′12″ W.)
VIKSN, CA | WP | (Lat. 37°21′03″ N., long. 117°53′36″ W.)
KENNO, NV | WP | (Lat. 37°17′53″ N., long. 117°18′37″ W.)
ESSAA, NV | WP | (Lat. 37°04′05″ N., long. 116°55′59″ W.)
TUMBE, NV | WP | (Lat. 36°48′20″ N., long. 116°40′03″ W.)
MYCAL, NV | WP | (Lat. 36°27′37″ N., long. 116°15′51″ W.)
Q164 NTELL, CA TO ROCCY, UT [New]
NTELL, CA | WP | (Lat. 36°53′59″ N., long. 119°53′22.21″ W.)
CABAB, CA | WP | (Lat. 37°16′36″ N., long. 118°43′12″ W.)
KICHI, NV | WP | (Lat. 37°58′00″ N., long. 117°11′00″ W.)
KATTS, NV | WP | (Lat. 38°20′00″ N., long. 116°20′00″ W.)
KITTN, NV | WP | (Lat. 38°19′44″ N., long. 114°57′41″ W.)
ROCCY, UT | WP | (Lat. 37°49′42″ N., long. 112°00′00″ W.)
Q166 VIKSN, CA TO BIKKR, CA [New]
VIKSN, CA | WP | (Lat. 37°21′03″ N., long. 117°53′36″ W.)
UHILL, CA | WP | (Lat. 36°53′48″ N., long. 117°13′36″ W.)
BIKKR, CA | WP | (Lat. 36°34′00″ N., long. 116°45′00″ W.)

Issued in Washington, DC, on June 3, 2014.
Gary A. Norek,
Manager, Airspace Policy and Regulations Group.

[FR Doc. 2014-13373 Filed 6-6-14; 8:45 am]

BILLING CODE 4910-13-P